DEPARTMENT OF THE TREASURY

Agreement for a Social Impact Partnership Project

AGENCY: Department of the Treasury.

ACTION: Notice.

SUMMARY: In accordance with the Social Impact Partnerships to Pay for Results Act (“SIPPRA”), the U.S. Department of the Treasury (“Treasury”) has entered into six agreements for social impact partnership projects (the “Project Grant Agreement”) with the following recipients; (1) City of Boise, ID ($7.5 million), (2) City of Jacksonville, FL ($5.8 million), (3) City of New York, NY ($6.3 million), (4) School Board of Leon County, FL ($4.6 million), (5) County of New Castle, DE ($11 million), and (6) County of Spartanburg, SC ($11.5 million) for a total award amount of $46.9 million.

SUPPLEMENTARY INFORMATION:

The Project Grant Agreement for the City of Boise, ID (Boise) Contains the Following Features

1. The outcome goals of the social impact partnership project:

Boise expects to realize a reduction in healthcare expenditures covered by Medicaid, including emergency room visits, hospital overnight stays, ambulance rides, detox visits, and savings due to a reduction in arrests and cost associated with county correctional facilities. The project objective is to decrease these expenditures by 25 percent.

2. A description of each intervention in the project:

Boise and its partners (the Idaho Community Foundation (ICF), and Terry Reilly Health Services (TRHS)) propose the Permanent Supportive Housing Pipeline Pay for Success project (the PSHP). The PSHP will provide Permanent Supportive Housing (PSH) and services using an Intensive Case Management (ICM) model including wrap-around services to 143 prioritized households who are experiencing long-term homelessness and have high service needs. These households are at increased risk for avoidable, high-cost service utilization paid through local, state, and federal outlays.

3. The target population that will be served by the project:

The target population is households with and without children experiencing long-term homelessness with at least one household member with at least one morbidity condition (chronic health condition, mental health condition, or substance use) in Ada County, Idaho. In Ada County, 765 households meet these criteria. Boise expects the project to reach 159 adults and 64 children.

4. The expected social benefits to participants who receive the intervention and others who may be impacted:

The primary expected social benefits from the project include:

• Reduced rate of homelessness among the most vulnerable populations;

• Reduced utilization of emergency medical services;

• Decreased criminal justice involvement; and

• Increased housing stability and retention.

5. The detailed roles, responsibilities, and purposes of each Federal, State, or local government entity, intermediary, service provider, independent evaluator, investor, or other stakeholder:

Role | Entity | Responsibilities
Government | City of Boise, ID | Repay investors with SIPPRA funds if performance benchmarks are met. Coordinate with the Treasury program team on administration of the program.
Intermediary | n/a | n/a.
Service Provider | Terry Reilly Health Services | Facilitate housing accesses with program enrollment into program using coordinated entry referrals. Provide intensive case management.
Independent Evaluator | Idaho Policy Institute (IPI), Boise State University | Evaluate the project using a regression discontinuity design.
Investor | Idaho Community Foundation | Provide the upfront capital for the program from the Supportive Housing Investment Fund (SHIF).

6. The payment terms, the methodology used to calculate outcome payments, the payment schedule, and performance thresholds:

Boise will be eligible for a payment from Treasury if there is a statistically significant difference between the treatment and the comparison group at the 80 percent level using the evaluation design strategy defined below. Boise is eligible to be paid each year from June 2028 to June 2032 for a total of five eligible payments.

7. The project budget:

Project budget | Year 0 | Year 1 | Year 2 | Year 3 | Year 4 | Year 5 | Year 6 | Year 7 | Total
TRHS (Family) | $254,719 | $764,157 | $802,365 | $842,483 | $884,608 | $928,838 | $975,280 | $341,348 | $5,793,798
TRHS (Adult) |  | 488,710 | 1,172,903 | 1,231,548 | 1,293,125 | 1,357,782 | 1,425,671 | 498,985 | 7,468,723
Total Project Costs | 254,719 | 1,252,867 | 1,975,268 | 2,074,031 | 2,177,733 | 2,286,620 | 2,400,951 | 840,333 | 13,262,522

8. The project timeline:

There is a seventy-six month-intervention period for the project term to provide IPI with the maximum allowed period to evaluate the impact of this project on the SIPPRA outcome of reduced net federal, state, and local expenditures. The project will begin the intervention in September 2025 and end in December 2031.

9. The project eligibility criteria:

Eligible households must have at least 12 points from the Length of Time and at least 3 points from the Tri-Morbidity sections of the PSHP Prioritization Formula outlined in Table 2. Those households that are both eligible for the PSHP and score the highest on the prioritization formula will be referred for enrollment. Ties will be broken in through coordinated clinical discretion, driven by self-reported health and criminal data and corroborating system utilization data available at the time of referral.

PSHP prioritization formula | Factor 1 | Factor 2 | Factor 3
Length of Time Homeless: 22 points max | 1 point every month up to 12 months | 1 point for every year up to 10 years (10 max)
FUSE Functionality: 10 points max | 5 points max: number of emergency medical interactions | 5 points max: # criminal justice interactions
Tri-Morbidity: 9 points max | 3 points: chronic illness | 3 points: mental illness | 3 points: substance use.
DV survivor: 6 points max | 3 points: DV within last 6 mo | 3 points: currently fleeing DV
Dependents: 6 points max | 2 points: any dependents in household | 1 point: kids 6-18 | 2 points: kids aged 0-5.
Age: 6 points max | 2 points: 18-24 yrs | 4 points: 55-61 yrs | 6 point: 62+ yrs.
Unsheltered: 2 points max | 1 point: HoH has been unsheltered more than 50% of last 6 months | 1 point: HoH facing persistent barriers in assessing emergency shelters
Income Level: 2 points max | 1 point: household sustainable income is at 30% AMI | 2 points: household has zero sustainable income
Discrimination: 1 point | 1 point: experienced discrimination based on protected class

10. The evaluation design:

To determine significance of impact, IPI will employ the following evaluative strategies: (1) a regression discontinuity, (2) Analysis of Variance (ANOVA) omnibus test, and (3) paired pairwise t-test. To determine the amount of any net reductions in local, state, and federal expenditures, IPI will facilitate collection of the utilization and costs data for 36 months prior to Participants entering the intervention (time 0) and annually thereafter. To determine the amount of any net reductions in expenditures, IPI will compare the associated utilization costs for enrolled Participants against those not enrolled using individual-level data.

11. The metrics that will be used in the evaluation to determine whether the outcomes have been achieved as a result of each intervention and how these metrics will be measured:

The metrics used will be:

• Reduction in costs related to arrests and jail.

• Reduction in costs related to the number of days in mental health and substance abuse treatment.

• Reduction in costs associated with paramedic calls, emergency department visits, and days in the hospital.

12. The estimate of the savings to the Federal, State, and local government, on a program-by-program basis and in the aggregate, if the agreement is entered into and implemented and the outcomes are achieved as a result of each intervention:

The estimated savings to the federal government are $12,434,017.

The estimated savings to the State of Idaho are $4,034,880.

The estimated savings to the City of Boise are $1,133,396.

The Project Grant Agreement for the City of Jacksonville, FL (Jacksonville) Contains the Following Features

1. The outcome goals of the social impact partnership project:

The anticipated outcome goals include substantial improvements in early literacy, parental engagement, and school readiness among preschool-aged children, and measurable reductions in healthcare utilization, especially for newborn ER visits and utilizations connected to maternal depression.

2. A description of each intervention in the project:

The READ JAX project includes two interventions, Family Connects and Reach Out and Read. Family Connects provides a universal nurse home visit for new parents to reduce infant emergency medical care visits and maternal postpartum depression rates. Reach Out and Read is a universal early literacy initiative through which health care providers coach parents on reading to their children to improve early literacy, parental engagement, and school readiness among preschool-aged children.

3. The target population that will be served by the project:

The READ JAX is available to each newborn and their family within Jacksonville, FL.

4. The expected social benefits to participants who receive the intervention and others who may be impacted:

The primary expected social benefits from the project include:

• Family Connects

○ Lower emergency department visits

○ Reduced hospital readmissions for infants

• Read Out and Read

○ Reduction in maternal depression

5. The detailed roles, responsibilities, and purposes of each Federal, State, or local government entity, intermediary, service provider, independent evaluator, investor, or other stakeholder:

Role | Entity | Responsibilities
Government | City of Jacksonville, FL | Repay investors with SIPPRA funds if performance benchmarks are met. Coordinate with the Treasury program team on administration of the program.
Intermediary | Kids Hope Alliance | Provide administrative and operational support.
Project Manager | Institute for Child Success | Provide project management services.
Service Provider | Reach Out and Read Florida | Provide pediatric literacy support for new parents.
| Children's Home Society of Florida | Provide home visiting services to expectant and new mothers.
Independent Evaluator | Riley Institute | Evaluate the project using a quasi-experimental design supported by synthetic control methodology.
Investor | The Community Outcome Fund at Maycomb Capital Partners | Provide the upfront capital.

6. The payment terms, the methodology used to calculate outcome payments, the payment schedule, and performance thresholds:

Jacksonville will be eligible for a payment from Treasury if there is a reduction in newborn emergency room visits and a reduction in treating complications from postpartum depression.

7. The project budget:

Project budget: Year 1 | Project budget: Year 2 | Project budget: Year 3 | Project budget: Year 4 | Project budget: Year 5 | Project budget: Year 6 | Project budget: Year 7 | Project budget: Total project costs
$4,500,000 | $4,500,000 | $4,500,000 | $4,500,000 | $4,500,000 | $4,500,000 | $4,500,000 | $31,500,000

8. The project timeline:

There is a seven-year intervention period. The project will begin the intervention in year two (2025) and end in year seven (2030).

9. The project eligibility criteria:

The project program is open to all young, low-income mothers residing within the City of Jacksonville, FL

10. The evaluation design:

Given the universal deployment of Reach Out and Read and Family Connects across Jacksonville, traditional randomized trials are impractical. Therefore, a Synthetic Control Method (SCM) will be utilized, facilitating a rigorous comparison against control units drawn from similar demographic and geographic locales without the intervention.

11. The metrics that will be used in the evaluation to determine whether the outcomes have been achieved as a result of each intervention and how these metrics will be measured:

The metric used will be the reduction in costs related to newborn ER visits and postpartum depression.

12. The estimate of the savings to the Federal, State, and local government, on a program-by-program basis and in the aggregate, if the agreement is entered into and implemented and the outcomes are achieved as a result of each intervention:

The estimated savings to the federal government is $11,202,009.

The estimated savings to the State of Florida is $4,876,774.

The Project Grant Agreement for the City of New York, NY (New York City) Contains the Following Features

1. The outcome goals of the social impact partnership project:

The expected outcome for this intervention is a 25-percentage point increase in the rate of stable housing or stable shelter (achieving 50% for the treatment group versus 25% of the comparison group) with stable housing defined as a permanent housing placement (e.g., permanent supportive housing, Long Term Nursing Care, family reunification) and stable shelter defined as a continuous stay in a low-barrier stabilization bed or other emergency housing setting that lasts at least 6 months.

2. A description of each intervention in the project:

The Coordinated Behavioral Task Force (CBHT)—3 Initiative by the New York City Department of Homeless Services (DHS) is a project to assist different segments of the unsheltered homeless population in New York City by providing homeless individuals with transitional housing and connecting them to services through intensive outreach, engagement, and care coordination. This project is focused on clients who are resistant to service engagement or entrenched in an unsheltered setting. The CBHT model coordinates representatives from State and local agencies and organizations to provide enhanced clinical and thorough case management services and to create service plans which will move the individual into supportive housing and connections to services through targeted interventions.

3. The target population that will be served by the project:

This program targets high acuity (e.g., severity of an illness or medical condition) individuals experiencing unsheltered homelessness. DHS expects to enroll about 400 individuals aged 18 or older experiencing unsheltered homelessness in New York City over 2-years, with services provided for up to a 39-month intervention period.

4. The expected social benefits to participants who receive the intervention and others who may be impacted:

New York City anticipates that this intervention will lead to improvements in quality of life associated with improved housing stability, increased access to healthcare, and decreased burden of disease. In addition, New York City expects that the improvements to the individual's housing stability will lower government spending related to emergency room visits and criminal justice systems interactions. Reducing unsheltered homelessness among this vulnerable population is expected to have a wide range of broader social benefits as well, including improved conditions on public transit (especially increased cleanliness and perceived safety, which could lead to increased ridership), and improved conditions in other public spaces.

5. The detailed roles, responsibilities, and purposes of each Federal, State, or local government entity, intermediary, service provider, independent evaluator, investor, or other stakeholder:

Role | Entity | Responsibilities
Government | City of New York, NY—Department of Homeless Services | Coordinate with the Treasury program team on administration of the program. Also serves as the investor of the program.
Intermediary | NYC Department of Health and Mental Hygiene (DOHMH), NYC Health and Hospitals (H+H) | Actively participate in CBHT meetings. Review eligibility of CBHT participants for key service interventions and facilitate enrollment as applicable (e.g., DOHMH: IMT, AOT, ACT Programs; H+H: CPEP, THU).
Service Provider | Bowery Residents Committee, Manhattan Outreach Consortium, Project Hospitality, Bronxworks, Breaking Ground Queens, and Breaking Ground Brooklyn | Contracted outreach teams that will provide the services to the target population.
Independent Evaluator | TBD | Evaluate the project using a combination of propensity score matching and random assignment.

6. The payment terms, the methodology used to calculate outcome payments, the payment schedule, and performance thresholds:

New York City will be eligible for payments from Treasury if there is a statistically significant difference between the treatment and the comparison group at the 80 percent level using the evaluation design strategy defined below.

7. The project budget:

| 2025 | 2026 | 2027 | 2028 | 2029 | Total
Project costs | $1,539,209 | $1,539,209 | $1,044,462 | $563,129 | $12,720 | $4,698,729

8. The project timeline:

This project has a five-year project timeline from January 1, 2025, through December 31, 2029. The project intervention period, defined as the period in which services will be delivered, will be 39 months, from July 1, 2025, through September 30, 2028.

9. The project eligibility criteria:

The CBHT-3 initiative will include 3 task forces serving high needs individuals experiencing unsheltered homelessness: High Needs Individuals—Subway System, High Needs Individuals—Above Ground, and End of Line (EOL) High Service Utilizers. Eligibility criteria for the first two task forces were determined by DHS in collaboration with operational and social services partners. Based on recommendations from DHS's partners, it was determined that in order to be selected for inclusion in the Subway System or Above Ground CBHT, an individual would have to meet 4 of 10 criteria related to medical vulnerability, older age, long-term street homelessness, a history of hospitalizations, a history of involuntary removals, repeated service refusal, significant behavioral health diagnosis, heightened NYPD/MTA interactions, excessive belongings with them, and propensity for violence.

Eligibility criteria for the EOL High Utilizers Task Force were developed based on early outcomes from the DHS EOL initiative. The EOL initiative focuses on engaging individuals at “End of line” stations—that is, the first and last stations of a given subway line—and bringing individuals into transitional housing beds. A January 2024 study by the DSS Office of Evaluation and Research identified a small group of individuals that repeatedly cycled between transitional housing and EOL stations. While accounting for less than 6% of approximately 5,000 unique clients served by the EOL initiative during a 17-month study period, this group accounted for roughly one-third of all transitional housing placements made in that time. This population will serve as the target population for the EOL task force.

10. The evaluation design:

The evaluation will employ a quasi-experimental design to rigorously assess the CBHT-3 Initiative's effectiveness in achieving its goal of stably housing individuals with complex health and mental health needs and long histories of unsheltered homelessness. Specifically, the evaluation will assess whether the initiative meets the outcome target of a 25-percentage point increase in the rate of stable housing or stable shelter. The initiative expects to achieve this impact by transitioning 50% of the treatment group into stable housing as compared to a 25% rate among the comparison group, with stable housing defined as a permanent housing placement and stable shelter defined a continuous stay in a low-barrier stabilization bed or other emergency housing setting that lasts at least 6 months. The evaluation will also measure any associated reductions in hospitalization (after an expected initial increase to stabilize health and mental health conditions), emergency room visits, transports to emergency housing, and arrests. An implementation evaluation will offer further insight into the initiative's activities and participants' experiences. Comparison groups for the Subway System and Above Ground task force clients will be identified using propensity score matching, drawing on a rich set of longitudinal case management data to ensure matched groups. A comparison group for the EOL task force will be identified using random assignment from among those repeatedly cycling through the EOL initiative.

11. The metrics that will be used in the evaluation to determine whether the outcomes have been achieved as a result of each intervention and how these metrics will be measured:

Whether New York City has successfully transitioned 50% of the treatment group into stable housing or stable shelter as compared to a 25% rate among the comparison group, with stable housing defined as a permanent housing placement and stable shelter defined as a continuous stay in a low-barrier stabilization bed or other emergency housing setting that lasts at least 6 months.

12. The estimate of the savings to the Federal, State, and local government, on a program-by-program basis and in the aggregate, if the agreement is entered into and implemented and the outcomes are achieved as a result of each intervention:

The estimated savings to the federal government are $19,893,775.

The estimated savings to the State of New York are $9,912,081.

There are not estimated savings to the City of New York.

The total net savings are $23,822,017.

The Project Grant Agreement for the School Board of Leon County, FL (Leon County) Contains the Following Features

1. The outcome goals of the social impact partnership project:

Leon County will seek outcomes from two interventions, (1) Family Connects, a universal postpartum nurse home visiting program under which Leon County expects to see a significant reduction in newborn emergency room visits and (2), Reach Out and Read a literacy initiative working through pediatric care providers which seeks to reduce maternal depression.

2. A description of each intervention in the project:

As stated above, Leon County's project has two interventions. The first, Family Connects, is a universal nurse home visit for new parents to reduce infant emergency medical care visits and maternal postpartum depression rates. The second, Reach Out and Read, is a universal early literacy initiative through which health care providers coach parents on reading to their children to improve early literacy, parental engagement, and school readiness among preschool-aged children.

3. The target population that will be served by the project:

The program is designed with an inclusive, universal approach to serve all families with newborns and young children in Leon County, with a specific emphasis on ensuring that low-income families benefit from early interventions that are crucial for the health and development of their children.

4. The expected social benefits to participants who receive the intervention and others who may be impacted:

The primary expected social benefits from the project include:

• Family Connects

○ Lower number of emergency department visits

○ Reduced hospital readmissions for infants

• Reach Out and Read

○ Reduction in maternal depression

5. The detailed roles, responsibilities, and purposes of each Federal, State, or local government entity, intermediary, service provider, independent evaluator, investor, or other stakeholder:

Role | Entity | Responsibilities
Government | Leon County Public Schools, FL | Repay investors with SIPPRA funds if performance benchmarks are met. Coordinate with the Treasury program team on administration of the program.
Intermediary | Institute for Child Success | Project Manager.
Service Provider | Capital Area Healthy Start Coalition | Provide community-based doulas to expecting mothers.
| Reach Out and Read | Provide pediatric literacy to new families.
Independent Evaluator | Florida Center for Reading Research, Florida State University | Evaluate the project using a quasi-experimental design supported by synthetic control methodology.
Investor | Maycomb Capital Partners | Provide the upfront capital.

6. The payment terms, the methodology used to calculate outcome payments, the payment schedule, and performance thresholds:

Leon County will be eligible for a payment from Treasury if there is an expected decrease in infant emergency medical care usage rates through the Family Connects program and a reduction in maternal depression.

7. The project budget:

Project budget: Year 1 | Project budget: Year 2 | Project budget: Year 3 | Project budget: Year 4 | Project budget: Year 5 | Project budget: Year 6 | Project budget: Year 7 | Project budget: Total project costs
| $466,666.00 | $706,666.80 | $706,666.80 | $706,666.80 | $706,666.80 | $1,306,666.80 | $4,600,000.00

8. The project timeline:

There is a seven-year intervention period. The project will begin the intervention in year two (2025) and end in year seven (2030), allowing for sufficient time for the independent evaluator to compete their assessment.

9. The project eligibility criteria:

The project is providing universal access to every family with newborns and young children within Leon County.

10. The evaluation design:

The use of quasi-experimental design is particularly suitable given the non-randomizable nature of the interventions being assessed. The use of synthetic control methodology accommodates the study's needs by allowing the integration of multiple data points (encompassing both health and educational metrics) to create a holistic view of each participant group. This methodology not only supports the establishment of a strong causal linkage between the interventions and observed outcomes but also provides a detailed counterfactual analysis.

11. The metrics that will be used in the evaluation to determine whether the outcomes have been achieved as a result of each intervention and how these metrics will be measured:

The number of emergency room visits per newborn, the prevalence of depressive symptoms among mothers, assessed at regular intervals, and school readiness indicators such as school entry assessments and teacher evaluations of readiness.

12. The estimate of the savings to the Federal, State, and local government, on a program-by-program basis and in the aggregate, if the agreement is entered into and implemented and the outcomes are achieved as a result of each intervention:

The estimated savings to the federal government is $11,418,762.

The estimated savings to the State of Florida is $5,132,751.

The Project Grant Agreement for the County of New Castle, DE (New Castle County) Contains the Following Features

1. The outcome goals of the social impact partnership project:

The expected outcomes include a 26.1% increase in permanent housing retention (proportion of families living in own rental home) and 29.7% decrease in avoidance of shelter stays (proportion of families with at least one night in emergency shelter).

2. A description of each intervention in the project:

The Family Housing Opportunities for Purposeful Empowerment Project (the Family HOPE Project)—a partnership between New Castle County and the Hope Center, an emergency shelter—will provide up to 90 days of temporary housing at the Hope Center, two years of rental assistance (disbursed as direct cash payments), and two years of case management and supportive services (such as financial counseling) for 120 families over about four years.

3. The target population that will be served by the project:

The target population is homeless families who are not currently receiving a rental subsidy, housing voucher, or other form of public housing and have a household income less than 50% of the Area Median Income (AMI) in New Castle County.

4. The expected social benefits to participants who receive the intervention and others who may be impacted:

The program aims to reduce family homelessness by (1) improving permanent housing retention and (2) decreasing emergency shelter stays. Through permanent housing retention, the Recipient expects to reduce state and local expenditures on (a) the judicial and legal system cost of intimate partner violence, (b) police protection costs of intimate partner violence, (c) costs to child welfare agencies of out-of-home placements, and (d) reductions from eviction-related costs. The Recipient also expects that reducing shelter stays will lower federal, state, and local expenditures on emergency shelter stays, transitional housing stays, and public-school transportation.

5. The detailed roles, responsibilities, and purposes of each Federal, State, or local government entity, intermediary, service provider, independent evaluator, investor, or other stakeholder:

Role | Entity | Responsibilities
Government | County of New Castle, DE | Repay investors with SIPPRA funds if performance benchmarks are met. Coordinate with the Treasury program team on administration of the program.
Intermediary | Social Finance | Serve as financial intermediary, leading project design and contracting activities. Provide performance management services and facilitate governance committees.
Service Provider | New Castle County Hope Center | Lead service provisions through providing emergency shelter stay to eligible families, coordination of rental assistance, and ongoing case management.
|  | Lead outreach and enrollment of families.
|  | Report data and coordinate with the Evaluator and Intermediary, as needed.
Independent Evaluator | Tech Impact, Data Innovation Lab | Evaluate the project using propensity score matching.
Investors | private and philanthropic investors | Provide upfront funding to support service provision.

6. The payment terms, the methodology used to calculate outcome payments, the payment schedule, and performance thresholds:

New Castle County will be eligible for a payment from Treasury if there is a statistically significant difference between the treatment and the comparison group at the 80 percent level using the evaluation design strategy defined below. Outcome payments will be generated from 2026 to 2031 for a total of six planned payments.

7. The project budget:

Project budget | Project budget: 2025 | Project budget: 2026 | Project budget: 2027 | Project budget: 2028 | Project budget: 2029 | Project budget: Total
Project costs | $864,710 | $2,044,595 | $2,248,966 | $1,076,581 | $220,000 | $7,844,268

8. The project timeline:

This project has a 7.25-year project timeline from January 1, 2025, through March 31, 2032. The project intervention period, defined as the period in which services will be delivered, will be 66 months, from July 1, 2025, through December 31, 2031.

9. The project eligibility criteria:

Participants are eligible if they are a family who (1) have at least one adult, aged 19 and older, and one or more children, aged 15 and younger, upon enrollment (inclusive of pregnant caregivers), (2) have family household income under 50% of the Area Median Income (AMI) in New Castle County, and (3) are not currently receiving a rental subsidy, housing voucher, or other form of public housing. Sex offenders are not eligible for the Family HOPE Project.

10. Evaluation design:

The study is a quasi-experimental design that compares the housing security outcomes of two groups: (1) a program group who receives a 2-year 90% fair market rent (FMR) monthly cash assistance following a temporary maximum 90-day stay at the Hope Center (n=120) and (2) a household socio-demographic matched control group sourced from CMIS, which is composed of families on any waitlist for the Delaware State Housing Authority (DSHA)—or local-level housing authorities in New Castle County—Public Housing and Housing Choice Voucher Program as well as with start and exit dates to any housing program (e.g., emergency shelters, temporary housing, rapid re-rehousing) that match our study inclusion period (n=120). They will randomize controls at the family unit but will observe outcomes at the individual participant family head of household level, potentially boosting the study's power. There are 2 independent matched groups of 60 in this overall study, totaling 120 controls and 120 families receiving cash rental assistance. Cohort 1 begins in Q3 of 2025, with cohort 2 following a year later, begins in Q3 of 2026. The design incorporates one-to-one propensity score matching.

11. The metrics that will be used in the evaluation to determine whether the outcomes have been achieved as a result of each intervention and how these metrics will be measured:

The following metrics will be used:

• Permanent Housing Retention: The proportion of families ultimately living in their own rental home

• Avoidance of the Shelter Stay: The proportion of families with at least 1 night in emergency shelter

12. The estimate of the savings to the Federal, State, and local government, on a program-by-program basis and in the aggregate, if the agreement is entered into and implemented and the outcomes are achieved as a result of each intervention:

The estimated savings to the federal government are $269,257.

The estimated savings to the State of Delaware are $12,843,519.

The estimated savings to the County of New Castle are $361,404.

The Project Grant Agreement the County of Spartanburg, SC (County of Spartanburg) Contains the Following Features

1. The outcome goals of the social impact partnership project:

The Hello Family Spartanburg County Expansion seeks to address critical early childhood and family development needs across Spartanburg County. Building on the Hello Family Initiative launched in the City of Spartanburg in 2021, this county-wide project seeks to enhance access to prenatal care, support healthy birth outcomes, incentivize breastfeeding, and reduce preventable medical interventions and child maltreatment through two different interventions: the BirthMatters Community Doula Program (BirthMatters) and Family Connects.

2. A description of each intervention in the project:

The County of Spartanburg will address critical early childhood and family development needs by expanding their Hello Family program county-wide. The Hello Family program has two different interventions: the BirthMatters Community Doula Program and Family Connects. BirthMatters enhances access to prenatal care through doula services until the infant is 12 months old. Family Connects' nurses are trained to assess newborns and mothers, provide immediate medical care when necessary, and recommend other supportive services as needed.

3. The target population that will be served by the project:

Family Connects is open to all mothers, and all young, low-income mothers are eligible for BirthMatters within Spartanburg County.

4. The expected social benefits to participants who receive the intervention and others who may be impacted:

The primary expected social benefits from the project include:

• BirthMatters

○ Reduced cesarean deliveries

○ Increased breastfeeding rates

○ Improved maternal-infant bonding

• Family Connects

○ Lower emergency department visits

○ Reduced hospital readmissions for infants

5. The detailed roles, responsibilities, and purposes of each Federal, State, or local government entity, intermediary, service provider, independent evaluator, investor, or other stakeholder:

Role | Entity | Responsibilities
Government | County of Spartanburg, SC | Repay investors with SIPPRA funds if performance benchmarks are met. Coordinate with the Treasury program team on administration of the program.
Intermediary | Institute for Child Success | Fiscal and project manager.
Service Provider | BirthMatters | Provide community-based doulas to expecting mothers.
| Family Connects | Provide nurse-led home visits.
Independent Evaluator | Urban Institute | Evaluate the project using a quasi-experimental design supported by synthetic control methodology.
Independent Validator | Riley Institute | Ensure the integrity and accuracy of project data through validation.
Investor | Maycomb Capital Partners, Spartanburg Academic Movement | Provide the upfront capital.

6. The payment terms, the methodology used to calculate outcome payments, the payment schedule, and performance thresholds:

County of Spartanburg will be eligible for a payment from Treasury if there is an expected decrease in low birthweight births through the BirthMatters program and an expected reduction of infant emergency medical care usage rates through the Family Connects program.

7. The project budget:

Project budget: Year 1 | Project budget: Year 2 | Project budget: Year 3 | Project budget: Year 4 | Project budget: Year 5 | Project budget: Year 6 | Project budget: Year 7 | Project budget: Total project costs
$1,400,000 | 1,400,000 | $1,400,000 | $1,400,000 | $1,400,000 | $1,400,000 | $1,500,000 | $9,900,000

8. The project timeline:

There is a seven-year intervention period. The project will begin the intervention in year two (2025) and end in year seven (2030), allowing for sufficient time for the independent evaluator to compete their assessment.

9. The project eligibility criteria:

The BirthMatters program is open to all young, low-income mothers residing in Spartanburg County. The Family Connects program is open to all mothers in Spartanburg County.

10. The evaluation design:

The choice of a Quasi-Experimental Design (QED), supported by Synthetic Control Methodology (SCM), is driven by the need for an assessment framework that allows for the control of confounding variables in non-randomized environments, especially given the prospect of bringing to scale models that are offered to all families. This evaluation seeks to quantify the effects of targeted interventions on key parameters such as Kindergarten Readiness and specific health outcomes indicative of infant and maternal health.

11. The metrics that will be used in the evaluation to determine whether the outcomes have been achieved as a result of each intervention and how these metrics will be measured:

The metrics used in the evaluation include costs associated with a reduction in newborn ER visits and a reduction in costs associated with low birthweight.

12. The estimate of the savings to the Federal, State, and local government, on a program-by-program basis and in the aggregate, if the agreement is entered into and implemented and the outcomes are achieved as a result of each intervention:

The estimated savings to the federal government is $11,2029.

The estimated savings to the State of South Carolina is $4,876,774.

Eric Van Nostrand,
P.D.O. Assistant Secretary for Economic Policy Department of the Treasury.

[FR Doc. 2024-31222 Filed 12-27-24; 8:45 am]

BILLING CODE 4810-AK-P